DEPARTMENT OF COMMERCE

National Oceanic and Atmospheric Administration

RIN 0648-XA165

Marine Mammals; File No. 15510

AGENCY: National Marine Fisheries Service (NMFS), National Oceanic and Atmospheric Administration (NOAA), Commerce.

ACTION: Notice; receipt of application for permit amendment.

SUMMARY: Notice is hereby given that Jennifer Burns, Ph.D., University of Alaska Anchorage, Biology Department, 3101 Science Circle, Anchorage, AK, has applied for an amendment to Scientific Research Permit No. 15510.

DATES: Written, telefaxed, or email comments must be received on or before January 7, 2016.

ADDRESSES: The application and related documents are available for review by selecting “Records Open for Public Comment” from the “Features” box on the Applications and Permits for Protected Species home page, https://apps.nmfs.noaa.gov, and then selecting File No. 15510 from the list of available applications.

These documents are also available upon written request or by appointment in the Permits and Conservation Division, Office of Protected Resources, NMFS, 1315 East-West Highway, Room 13705, Silver Spring, MD 20910; phone (301) 427-8401; fax (301) 713-0376.

Written comments on this application should be submitted to the Chief, Permits and Conservation Division, at the address listed above. Comments may also be submitted by facsimile to (301) 713-0376, or by email to NMFS.Pr1Comments@noaa.gov. Please include the File No. in the subject line of the email comment.

Those individuals requesting a public hearing should submit a written request to the Chief, Permits and Conservation Division at the address listed above. The request should set forth the specific reasons why a hearing on this application would be appropriate.

FOR FURTHER INFORMATION CONTACT: Rosa L. González or Amy Sloan, (301) 427-8401.

SUPPLEMENTARY INFORMATION: The subject amendment to Permit No. 15510 is requested under the authority of the Marine Mammal Protection Act of 1972, as amended (16 U.S.C. 1361 et seq.), the regulations governing the taking and importing of marine mammals (50 CFR part 216), the Endangered Species Act of 1973, as amended (16 U.S.C. 1531 et seq.), and the regulations governing the taking, importing, and exporting of endangered and threatened species (50 CFR 222-226), and the Fur Seal Act of 1966, as amended (16 U.S.C. 1151 et seq.).

Permit No. 15510, issued on April 25, 2011 (76 FR 25308), authorizes Dr. Burns to conduct physiology studies on development, thermoregulation, muscle performance, oxygen stores, and hormonal and other regulatory processes using marine mammal parts. Annually, Dr. Burns can obtain samples from up to 50 animals of each of the following species: harp (Pagophilus groenlandica), hooded (Cystophora cristata), gray (Halichoerus grypus), bearded (Erignathus barbatus), ringed (Phoca hispida), harbor (Phoca vitulina), spotted (Phoca largha), and ribbon (Histriophoca fasciata) seals; and to obtain samples annually from up to 6 captive Northern fur seals, Callorhinus ursinus; and 6 captive Steller Sea lions, Eumetopias jubatus. Samples may be from subsistence-harvested animals in Alaska, and other scientific and/or subsistence collections including but not limited to the national waters of Canada, Norway, the United Kingdom, and in international waters. Samples may be collected, received nationally, and imported and exported worldwide over a five-year period for laboratory analysis to support the research objectives. The permit holder is requesting the permit be amended to increase the number of harbor seals from which samples may be collected, received, imported, and exported from 50 to 100 annually; and, to extend the permit for 1 year. The permit would expire April 30, 2017.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of this application to the Marine Mammal Commission and its Committee of Scientific Advisors.

Dated: December 2, 2015.
Julia Harrison,
Chief, Permits and Conservation Division, Office of Protected Resources, National Marine Fisheries Service.

[FR Doc. 2015-30842 Filed 12-7-15; 8:45 am]

BILLING CODE 3510-22-P